DEPARTMENT OF THE INTERIOR

Bureau of Land Management

[ID-010-0777-XQ]

Notice of Meeting

AGENCY: Lower Snake River District, Bureau of Land Management, Interior.

ACTION: Meeting notice.

SUMMARY: The Lower Snake River District Resource Advisory Council will meet in Boise. Potential agenda topics are the Interior Columbia Basin Ecosystem Management Plan, the Integrated Natural Resources Management Plan for the U.S. Air Force Enhanced Training in Idaho project, sage grouse habitat management, implementation of rangeland standards and guidelines, off-highway vehicle management and other land management issues.

DATES: June 22, 2000. The meeting will begin at 9 a.m. Public comment periods will be held at 9:30 a.m. and 4 p.m.

ADDRESSES: The meeting will be held at the Lower Snake River District Office, located at 3948 Development Avenue, Boise, Idaho.

FOR FURTHER INFORMATION CONTACT: Barry Rose, Lower Snake River District Office (208-384-3393).

Dated: May 12, 2000.
Howard Hendrick,
District Manager.

[FR Doc. 00-12490 Filed 5-17-00; 8:45 am]

BILLING CODE 4310-84-P